DEPARTMENT OF ENERGY

Federal Energy Regulatory Commission

[Docket No. RP03-163-000]

Energy Development Corporation v. Columbia Gas Transmission Corporation, and Columbia Natural Resources, Inc.; Notice of Complaint

December 3, 2002.

Take notice that on December 2, 2002, pursuant to Rule 206 of the Rules of Practice and Procedure of the Federal Energy Regulatory Commission (Commission), 18 CFR 385.206, Energy Development Corporation (EDC) filed a Complaint Requesting Fast Track Processing and Request for Interim and Permanent Relief against Columbia Gas Transmission Corporation (Columbia), and Columbia Natural Resources (CNR). EDC alleges that Columbia, in concert with its affiliate CNR, is acting in an anti-competitive manner in connection with the transportation of gas in interstate commerce.

EDC has requested the Commission to: (1) Reassert jurisdiction over the V-33 system to protect shippers such as EDC from the anticompetitive behavior of Columbia and its affiliate CNR; (2) require Columbia to restore the exchange agreement with Cranberry/Cabot that existed prior to abandonment if, in fact, such agreement is not still in place; (3) protect EDC from the immediate danger of losing its essential service on the V-33 system by providing immediate interim relief requiring Columbia and its affiliate CNR to continue service without interruption until the final resolution of this Complaint; and (4) provide permanent relief to EDC and other shippers by restoring jurisdictional status to the V-33 system and requiring Columbia to accept delivery of maximum allowable volumes of gas from EDC into the V-33 system as an integral part of the Columbia system, thus allowing EDC free choice of a gas buyer.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before December 23, 2002. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-31115 Filed 12-6-02; 8:45 am]

BILLING CODE 6717-01-P